DEPARTMENT OF ENERGY

Notice of Intent to Prepare an Environmental Impact Statement for the Appalachian Hydrogen Hub (ARCH2), (DOE/EIS-0569)

AGENCY: Office of Clean Energy Demonstrations, U.S. Department of Energy.

ACTION: Notice of intent to prepare an environmental impact statement, notice of scoping meetings, request for comments.

SUMMARY: The U.S. Department of Energy (DOE) announces its intent to prepare an Environmental Impact Statement (EIS) pursuant to the National Environmental Policy Act (NEPA) and applicable NEPA implementing regulations to assess the potential environmental impacts of the proposed action of providing financial assistance to Battelle Memorial Institute (Battelle) to facilitate the design, construction, operation, and maintenance of the Appalachian Hydrogen Hub (also referred to as the Appalachian Regional Clean Hydrogen Hub or ARCH2) in the Appalachian Region including Ohio, Pennsylvania, and West Virginia. DOE is issuing this Notice of Intent to inform the public about the proposed action; announce plans to conduct public scoping meetings; invite public participation in the scoping process; and solicit public comments for consideration in establishing the scope of the EIS, including the range of reasonable alternatives and the potential environmental impacts to be analyzed.

DATES: The public scoping period for the EIS starts with the publication of this notice of intent (NOI) and ends on March 3, 2025. DOE will hold one virtual public scoping meeting at the following date and time (eastern time):

• Thursday, January 16, 2025 at 6 p.m.-8 p.m.

DOE will hold three in-person public scoping meetings. Dates, times, and locations are to be determined and will be shared on the DOE's web page for this EIS no less than 15 days before the meetings.

All meetings are open to the public and free to attend. Details on how to participate in the virtual and in-person public scoping meetings are available on the DOE's web page for this EIS: https://www.energy.gov/nepa/doeeis-0569-appalachian-hydrogen-hub-multiple-locations. In defining the scope of the EIS, DOE will consider all scoping comments received or postmarked by March 3, 2025. Comments received or postmarked after the scoping period end date will be considered to the extent practicable.

ADDRESSES: Oral or written comments may be provided at the public scoping meetings or submitted in any of the following ways:

• Through the regulations.gov web portal: Navigate to www.regulations.gov and search for Docket No. DOE-HQ-2024-0082 and follow the instructions for submitting comments.

• Mail or Hand Delivery Service: Send comments in an envelope labeled “DOE/EIS-0569” and addressed to TRC APPALACHIAN HYDROGEN HUB Coordinator, Teays Corporate Centre, 135 Corporate Center Drive, Suite 540, Scott Depot, West Virginia 25560

FOR FURTHER INFORMATION CONTACT: Sarah Moore, Project Manager, Office of Clean Energy Demonstrations, U.S. Department of Energy, 1000 Independence Ave SW, Washington, DC 20585, email OCED_ARCH2_EIS@hq.doe.gov, or telephone (202) 309-2037.

SUPPLEMENTARY INFORMATION:

Background

In the Infrastructure Investment and Jobs Act, commonly known as the Bipartisan Infrastructure Law (BIL), Congress directed DOE to establish a Regional Clean Hydrogen Hubs (H2Hubs) program to create regional networks of hydrogen producers, consumers, and local connective infrastructure to accelerate the use of hydrogen as a clean energy carrier. The Office of Clean Energy Demonstrations (OCED) within DOE is implementing the Regional Clean Hydrogen Hubs program and will use the NEPA process to help it decide whether to provide financial assistance for the H2Hubs.

Congress directed DOE to select H2Hubs using certain criteria. Specifically, Congress directed DOE to select H2Hubs that will use a diversity of feedstocks to produce clean hydrogen, including at least one H2Hub that will demonstrate the production of clean hydrogen from fossil fuels, one H2Hub that will demonstrate the production of clean hydrogen from renewables, and one H2Hub that will demonstrate the production of clean hydrogen from nuclear energy. Congress also directed DOE to select H2Hubs that will use clean hydrogen in a diversity of end uses, including at least one H2Hub that will demonstrate the use of clean hydrogen in the following sectors: electric power generation, industrial, residential and commercial heating, and transportation. Congress required that DOE give priority to H2Hubs that are likely to create opportunities for skilled training and long-term employment to the greatest number of residents of the region. Congress also directed DOE to include geographic diversity, directing that DOE locate H2Hubs in different regions of the United States, and that the H2Hubs are to use the energy resources that are abundant in their respective regions. Congress further required DOE to select, to the maximum extent practicable, at least two H2Hubs in the regions of the United States with the greatest natural gas resources.

DOE issued a Funding Opportunity Announcement (FOA-0002779) to solicit applications for H2Hubs. DOE selected the Appalachian Hydrogen Hub for award negotiations following a rigorous Merit Review process to identify meritorious applications to the Regional Clean Hydrogen Hubs Program based on the criteria listed in FOA-0002779. DOE has provided limited funding in support of preliminary Appalachian Hydrogen Hub planning activities.

The Appalachian Hydrogen Hub, as proposed, satisfies certain criteria Congress required in the BIL for the Regional Clean Hydrogen Hubs program. The Appalachian Hydrogen Hub has the potential to demonstrate the production of clean hydrogen from fossil fuels. The Appalachian Hydrogen Hub proposes to use clean hydrogen in a diversity of end uses, including but not limited to industry, power generation, and transportation. Further, the Appalachian Hydrogen Hub would create opportunities for skilled training and long-term employment for residents of the region. In addition, the location of the Appalachian Hydrogen Hub in the Appalachian Region that includes Ohio, Pennsylvania, and West Virginia meets the criterion requiring geographic diversity within the Regional Clean Hydrogen Hubs program. The Appalachian Hydrogen Hub also satisfies the criterion that DOE select a Hub in a region of the United States with the greatest natural gas resources.

The Appalachian Hydrogen Hub is proposed to consist of a suite of demonstration projects involving clean hydrogen production, transportation, and end uses located within the Appalachian Region that includes Ohio, Pennsylvania, and West Virginia. Battelle is the primary funding recipient and lead Appalachian Hydrogen Hub manager. As currently structured, the Appalachian Hydrogen Hub encompasses 12 proposed projects, including hydrogen production facilities that could produce at least 1,700 metric tons per day of clean hydrogen (autothermal reformation facilities with carbon capture, biomass pyrolysis facilities, electrolysis facilities, and facilities for recovering hydrogen from waste gases), hydrogen liquefiers, and a range of end uses including residential fuel cells, materials handling equipment, mobility, and industrial uses, including production of ammonia, urea, and low-carbon aviation fuel.

Purpose and Scope of the EIS

DOE will prepare an EIS (DOE/EIS-0569) to evaluate the potential impacts to the human environment associated with funding the Appalachian Hydrogen Hub. The EIS will evaluate the potential impacts associated with the types of hydrogen infrastructure and technologies proposed in the Appalachian Hydrogen Hub, such as impacts from electricity and water usage and rates of emissions, that are inherent to the technologies and infrastructure regardless of where they may be deployed. The EIS will help inform DOE's decision as to whether to carry the Appalachian Hydrogen Hub forward for project-specific funding decisions but will not directly authorize funding for specific Appalachian Hydrogen Hub projects.

If DOE decides to provide funding for the construction and operation of the Appalachian Hydrogen Hub, DOE will complete additional NEPA reviews to evaluate the potential site-specific impacts of individual proposed projects to make site-specific funding decisions. In addition to being subject to DOE's NEPA review, with associated public scoping and comment periods as appropriate, individual projects will be required to adhere to the requirements of all applicable Federal, State, and local laws and regulations.

Purpose and Need for the Proposed Action

The purpose and need for DOE's action is to comply with its statutory mandate in BIL to catalyze investment in the production, processing, delivery, storage, and end-use of clean hydrogen; and contribute to the development of a national clean hydrogen network. The proposed action of funding the Appalachian Hydrogen Hub would fulfill this mandate by accelerating the deployment of clean hydrogen technologies and enabling infrastructure to attract greater investments from the private sector and promote substantial U.S. manufacturing of numerous hydrogen technologies.

DOE's purpose and need in funding the Appalachian Hydrogen Hub also includes funding a clean hydrogen hub that meets certain BIL criteria for the H2Hubs. The proposed Appalachian Hydrogen Hub meets these criteria by:

• Demonstrating feedstock diversity by including the production of clean hydrogen from fossil fuels.

• Demonstrating end use diversity by including the use of clean hydrogen in the electric power generation, industry, and transportation sectors.

• Enabling DOE to meet the geographic diversity criterion by being located in the Appalachian Region and using energy resources that are abundant in that region.

• Being one of at least two H2Hubs located in regions of the United States with the greatest natural gas resources.

• Creating opportunities for skilled training and long-term employment for residents in the region.

Proposed Action, No Action, and Preliminary Alternatives

Proposed Action

DOE's proposed action is to provide funding to support the construction and operation of the Appalachian Hydrogen Hub, as proposed by Battelle, in the Appalachian region that includes Ohio, Pennsylvania, and West Virginia. The proposed Appalachian Hydrogen Hub would include the production, storage, delivery, and end-use of clean hydrogen using a variety of technologies. Hydrogen production technologies being considered include autothermal reforming with carbon capture, electrolysis, pyrolysis, and capture and purification of hydrogen byproduct from chlor-alkali processes. Methods of hydrogen storage may include above-ground tanks, tube trailers, and/or underground storage. Delivery options may include refueling stations, liquefaction, and trucking, as well as the delivery of hydrogen derivatives such as ammonia, urea, or low-carbon aviation fuel which could include delivery via rail, barge, truck, or pipeline. The Appalachian Hydrogen Hub is considering a broad variety of end-use applications, including vehicles (buses, medium and heavy-duty trucks), materials handling equipment, industrial heat, blending to natural gas distribution systems, power generation, stationary fuel cells, and production of hydrogen derivatives, including ammonia, urea, and low-carbon aviation fuel. Appalachian Hydrogen Hub projects and site locations are in development. DOE will evaluate specific projects and site locations in subsequent tiered NEPA reviews.

No Action Alternative

Under the No Action Alternative, DOE would not provide funding to Battelle for the construction and operation of the Appalachian Hydrogen Hub, with the assumption that the H2Hub would not be developed. The no action alternative provides a benchmark for comparison with environmental impacts of the other alternatives.

Preliminary Action Alternatives

The EIS will evaluate reasonable alternatives that are technically and economically feasible and meet the purpose and need for the proposed action. Preliminarily, DOE has identified three alternatives that potentially address the purpose and need stated above:

(1) DOE funding for the proposed Appalachian Hydrogen Hub: The proposed action alternative as described above.

(2) DOE funding for an expanded Appalachian Hydrogen Hub: An action alternative that considers the hydrogen technologies and infrastructure in the proposed action plus reasonably foreseeable clean hydrogen technologies and infrastructure that, while not currently considered in the proposed action, could be proposed for DOE funding.

(3) DOE funding for a reduced Appalachian Hydrogen Hub: An action alternative that is smaller in scope wherein DOE would fund only a portion of the proposed action.

Summary of Potential Impacts

DOE's analysis in the EIS will focus on potentially significant environmental impacts from construction and operation of the Appalachian Hydrogen Hub's proposed types of hydrogen technologies and infrastructure, as well as the potential cumulative impacts resulting from reasonably foreseeable past, present, and future projects in the same region. Accordingly, in the EIS, DOE anticipates evaluating potential non-site-specific impacts related to: (1) land use and infrastructure, (2) atmospheric conditions and air quality, (3) climate change and greenhouse gasses, (4) hydrologic conditions and water quality, (5) geology, seismicity and soils, (6) socioeconomic conditions, (7) environmental justice, (8) energy resources, (9) noise and vibration, (10) transportation and accidents, (11) intentional destructive acts, and (12) human health and safety. This list is not intended to be all-inclusive or to imply a predetermination of potential significant impacts. DOE invites interested stakeholders to suggest specific issues, including possible mitigation measures, within these general categories or others, to be considered in the EIS.

Anticipated Permits and Authorizations

DOE does not anticipate that permits and authorizations will be needed for agency action because the EIS would not authorize the construction and operation of any project in the Appalachian Hydrogen Hub. The permits and authorizations required for the Appalachian Hydrogen Hub projects would be identified in subsequent site-specific NEPA analyses for those projects.

Schedule for Decision-Making Process

After the draft EIS is completed, DOE will publish a notice of availability (NOA) and request public comments on the draft EIS. DOE currently expects to issue the NOA in October 2025. After the public comment period ends, DOE will review and respond to comments received and will develop the final EIS. DOE currently expects to make the final EIS available to the public in April 2026. A record of decision will be completed no sooner than 30 days after the final EIS is released, in accordance with applicable laws and regulations.

Scoping Process

This NOI commences the public scoping process to identify issues and potential alternatives for consideration in the EIS. Throughout the scoping process, Federal agencies, Tribes, State and local governments, and the public have the opportunity to help DOE identify significant resources and issues, reasonable alternatives, mitigation measures, and other pertinent information that DOE should consider in the EIS. DOE will hold public scoping meetings at the times and dates described above under the DATES section. DOE will post information on how to participate in the virtual and in-person public meetings on the EIS website listed previously, in advance of the meetings. The public will have the opportunity to comment on the scope of the EIS. DOE representatives will be available to answer questions and provide additional information on the NEPA process to meeting attendees. In addition to providing comments at the public scoping meetings, stakeholders may submit written comments as described in the ADDRESSES section.

Comments may be broad in nature or restricted to specific areas of concern, but they should be directly relevant to the NEPA process, or potential environmental impacts. The scoping process allows the public and interested parties to shape the EIS impact analysis, focusing on the areas of greatest importance and identifying areas requiring less attention. DOE will consider the comments received on the scope of the EIS during the 75-day scoping period as it prepares the draft EIS.

OCED does not consider anonymous scoping comments. Please include your name and address as part of your scoping comment. All scoping comments, including the names, addresses, and other personally identifiable information included in the comment, will be part of the administrative record. DOE will protect privileged or confidential information that you submit when required by Exemption 4 of the Freedom of Information Act (FOIA), which applies to trade secrets and commercial or financial information that is privileged or confidential. Please label privileged or confidential information “Contains Confidential Information” and consider submitting such information as a separate attachment. Information that is not labeled as privileged or confidential may be regarded by DOE as suitable for public release. DOE will invite Tribal government-to-government consultations.

Request for Comment on Alternatives and Effects, as Well as on Relevant Information, Studies, or Analyses With Respect to the Proposed Action

Federal, State, and local agencies, along with Indian Tribal Nations and other stakeholders that may be interested in or affected by the proposed action, are invited to participate in the scoping process and, if eligible, may request or be requested by the DOE to participate in the development of the environmental analysis as a cooperating agency. DOE requests data, comments, views, information, analysis, alternatives, or suggestions relevant to the proposed action from the public; affected Federal, Tribal, State, and local governments, agencies, and offices; the scientific community; industry; or any other interested party.

Specifically, DOE requests information on the following topics:

(1) Potential effects that the proposed action could have on biological, physical, socioeconomic, cultural, or other resources.

(2) Other potential reasonable alternatives to the proposed action that DOE should consider, including additional or alternative avoidance, minimization, and mitigation measures.

(3) Information on other current or planned activities in, or in the vicinity of, the proposed action, that could impact one another or contribute to cumulative impacts.

(4) Other information, studies, or analyses relevant to the proposed action and its impacts on the human environment.

To promote informed decision-making, comments should be as specific as possible and should provide as much detail as necessary to meaningfully and fully inform DOE of why the issues raised are important to the agency's review of the proposed action.

The draft EIS will include as an appendix a summary of issues raised in public scoping comments that DOE considered in preparing the EIS and comments outside the scope of the analysis.

Signing Authority

This document of the Department of Energy was signed on December 11, 2024, by Kelly Cummins, Acting Director, Office of Clean Energy Demonstrations, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 13, 2024.
Treena V. Garrett,
Federal Register Liaison Officer, U.S. Department of Energy.

[FR Doc. 2024-29976 Filed 12-17-24; 8:45 am]

BILLING CODE 6450-01-P